DEPARTMENT OF THE INTERIOR

Office of the Special Trustee for American Indians

Notice of Availability of Draft “To-Be” Trust Business Model for Public Comment

AGENCY: Office of the Special Trustee for American Indians; Interior.

ACTION: Notice of availability of draft “To-Be” trust business model for public comment.

SUMMARY: This action notifies the public of the availability of the draft “To-Be” trust business model for public comment from the date of this publication to March 31, 2004.

For a number of years, the Department of the Interior (DOI) has been working on several projects to reform and improve the management of Indian fiduciary trust assets. The most comprehensive reform effort currently underway is the development of the “To-Be” Trust Model, which will reengineer the way DOI bureaus and offices perform their trust responsibilities and, ultimately, improve services provided to trust beneficiaries.

Reengineering is necessary, particularly in response to some of the challenges facing DOI in its administration of the trust. These challenges include:

• Individual Indians, Tribes, and Congress who have, for some time, expressed dissatisfaction with the trust management services provided by DOI;

• Multiple and often duplicative processes that are used to manage land and natural resource assets, track ownership, manage accounts and distribute funds;

• The expectations of beneficiaries and employees that may exceed the Indian Trust mandate or capability of the Trustee to deliver;

• The number of fractionated interests in land assets, which are growing at an exponential rate, and the number of IIM accounts that must be managed, that have overwhelmed and excessively complicated the existing manual and automated processes and systems.

With this daunting array of challenges, the need for changing the way DOI delivers trust products and services is evident. DOI senior leadership has led the way by developing a plan titled The Comprehensive Trust Management (CTM) Plan, which defines and describes the strategic direction of trust reform and clearly articulates DOI's commitment to fulfilling its trust responsibilities. Toward this end, a team of DOI and tribal representatives worked extensively to document the DOI performance of current fiduciary trust business practices nationwide, which are reported in the “As-Is” Report. The information contained in the “As-Is” Report is the foundation for the recommendations for reengineered business process that appear within the “To-Be” Model. Standardization of fiduciary trust business processes and modernization of systems to meet customer, accounting, and operational requirements is needed.

During the period of November 2003 to January 2004, meetings were held to provide stakeholders' information relative to the progress made to date on the draft “To-Be” trust business model. The meetings were also intended to solicit comments and recommendations for improving the draft “To-Be” trust business model. This comment period follows the conclusion of those informational meetings.

DATES: All comments are due by March 31, 2004.

ADDRESSES: Submit any written comments on the “To-Be” draft business model to D. Jeff Lords, Acting Deputy Special Trustee—Trust Accountability, Office of the Special Trustee for American Indians, 4400 Masthead NE., Albuquerque, NM 87109. Submissions by facsimile should be sent to 505/816-1360.

FOR FURTHER INFORMATION CONTACT: D. Jeff Lords, Acting Deputy Special Trustee—Trust Accountability, Office of the Special Trustee for American Indians, 4400 Masthead NE., Albuquerque, NM 87109; telephone 505/816-1313.

SUPPLEMENTARY INFORMATION: This action notifies the public of a review and comment period for the draft “To-Be” trust business model from the date of publication to March 31, 2004. The draft “To-Be” trust business model is available by accessing http://www.ost.doi.gov. If you do not have internet access, a copy of the draft “To-Be” trust business model is available on Compact Disk (CD) format. For a copy of the CD please write to: Office of the Special Trustee for American Indians, Trust Program Management Center, 4400 Masthead NE., Albuquerque, NM 87109, or call 505/816-1313.

Individual respondents may request confidentiality. If you wish us to withhold your name, street address, and other contact information (such as fax or phone number) from public review or from disclosure under the Freedom of Information Act, you must state this prominently at the beginning of your comment. We will honor your request to the extent allowable by law. We will make available for public inspection in their entirety all submissions from organizations or businesses, and from individuals identifying themselves as representatives or officials of organizations or businesses.

This notice is published in accordance with the authority delegated by the Secretary of the Interior to the Special Trustee for American Indians by 209 DM 11.

Dated: January 30, 2004.
Ross Swimmer,
Special Trustee for American Indians, Office of the Special Trustee for American Indians.

[FR Doc. 04-2407 Filed 2-4-04; 8:45 am]

BILLING CODE 4310-2W-P